NATIONAL SCIENCE FOUNDATION

Sunshine Act Meeting; National Science Board

The National Science Board's Committee on National Science and Engineering Policy (SEP), pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Friday, October 9, 2020 at 3:00-3:30 p.m. EDT.

PLACE: This meeting will be held by videoconference through the National Science Foundation. A toll-free dial-in number will be available for the public. Contact the Board Office 24 hours before the teleconference to request the public dial-in number at nationalsciencebrd@nsf.gov.

STATUS: Open.

MATTERS TO BE CONSIDERED: Chair's opening remarks; discussion of the narrative outline for the SEI 2022 thematic report on research & development trends.

CONTACT PERSON FOR MORE INFORMATION: Point of contact for this meeting is: Chris Blair, cblair@nsf.gov, 703-292-7000. To listen to this teleconference, members of the public must send an email to nationalsciencebrd@nsf.gov at least 24 hours prior to the teleconference. The National Science Board Office will send requesters a toll-free dial-in number. Meeting information and updates (time, place, subject matter or status of meeting) may be found at http://www.nsf.gov/nsb/meetings/notices.jsp#sunshine. Please refer to the National Science Board website www.nsf.gov/nsb for additional information.

Chris Blair,
Executive Assistant to the National Science Board Office.

[FR Doc. 2020-21221 Filed 9-22-20; 4:20 pm]

BILLING CODE 7555-01-P